DEPARTMENT OF COMMERCE

National Oceanic and Atmospheric Administration

50 CFR Part 648

[Docket No. 180110022-8383-02]

RIN 0648-BH52

Magnuson-Stevens Fishery Conservation and Management Act Provisions; Fisheries of the Northeastern United States; Northeast Multispecies Fishery; Framework Adjustment 57

AGENCY: National Marine Fisheries Service (NMFS), National Oceanic and Atmospheric Administration (NOAA), Commerce.

ACTION: Final rule.

SUMMARY: This action approves and implements Framework Adjustment 57 to the Northeast Multispecies Fishery Management Plan, as recommended by the New England Fishery Management Council. This rule sets 2018-2020 catch limits for 20 multispecies (groundfish) stocks, adjusts allocations for several fisheries, revises accountability measures, and makes other minor changes to groundfish management measures. This action is necessary to respond to updated scientific information and achieve the goals and objectives of the fishery management plan. The final measures are intended to prevent overfishing, rebuild overfished stocks, achieve optimum yield, and ensure that management measures are based on the best scientific information available.

DATES: Effective on May 1, 2018.

ADDRESSES: Copies of Framework Adjustment 57, including the Environmental Assessment, the Regulatory Impact Review, and the Regulatory Flexibility Act Analysis prepared by the New England Fishery Management Council in support of this action are available from Thomas A. Nies, Executive Director, New England Fishery Management Council, 50 Water Street, Mill 2, Newburyport, MA 01950. The supporting documents are also accessible via the internet at: http://www.nefmc.org/management-plans/northeast-multispecies or http://www.regulations.gov.

FOR FURTHER INFORMATION CONTACT: Mark Grant, Fishery Policy Analyst, phone: 978-281-9145; email: Mark.Grant@noaa.gov.

SUPPLEMENTARY INFORMATION:

Table of Contents

1. Summary of Approved Measures

2. Fishing Year 2018 Shared U.S./Canada Quotas

3. Catch Limits for Fishing Years 2018-2020

4. Default Catch Limits for Fishing Year 2021

5. Revisions to Common Pool Trimester Allocations

6. Adjustments Due to Fishing Year 2016 Overages

7. Revisions to Atlantic Halibut Accountability Measures

8. Revisions to Southern Windowpane Flounder Accountability Measures for Non-Groundfish Trawl Vessels

9. Revision to the Southern New England/Mid-Atlantic Yellowtail Flounder Accountability Measures for Scallop Vessels

10. Recreational Fishery Measures

11. Fishing Year 2018 Annual Measures Under Regional Administrator Authority

12. Administrative Regulatory Corrections Under Secretarial Authority

13. Comments and Responses on Measures Proposed in the Framework 57 Proposed Rule

1. Summary of Approved Measures

This action approves the management measures in Framework Adjustment 57 to the Northeast Multispecies Fishery Management Plan (FMP). The measures implemented in this final rule are:

• Fishing year 2018 shared U.S./Canada quotas for Georges Bank (GB) yellowtail flounder and eastern GB cod and haddock;

• Fishing year 2018-2020 specifications for 20 groundfish stocks;

• Revisions to the common pool trimester total allowable catch (TAC) allocations for several stocks;

• Revisions to the accountability measures (AM) for Atlantic halibut for vessels issued any Federal permit;

• Revisions to the AMs for southern windowpane flounder for non-groundfish trawl vessels;

• Revisions to the trigger for the scallop fishery's AM for Southern New England/Mid-Atlantic (SNE/MA) yellowtail flounder; and

• Regional Administrator authority to adjust recreational measures for GB cod.

This action also implements a number of other measures that are not part of Framework 57, but that are implemented under Regional Administrator authority included in the Northeast Multispecies FMP or Secretarial authority to address administrative matters under section 305(d) of the Magnuson-Stevens Fishery Conservation and Management Act. We are implementing these measures in conjunction with the Framework 57 measures for expediency purposes, and because these measures are related to the catch limits in Framework 57. The additional measures implemented by this action are listed below:

• Management measures for the common pool fishery—this action adjusts fishing year 2018 trip limits for the common pool fishery.

• Adjustments for fishing year 2016 catch overages—this action reduces the 2018 allocations of GB cod, Gulf of Maine (GOM) cod, and witch flounder due to catch limit overages that occurred in fishing year 2016.

• Other regulatory corrections—this action corrects a minor rounding error in the regulations for the common pool trimester TACs.

2. 2018 Fishing Year U.S./Canada Quotas

Management of Transboundary Georges Bank Stocks

As described in the proposed rule, eastern GB cod, eastern GB haddock, and GB yellowtail flounder are jointly managed with Canada under the United States/Canada Resource Sharing Understanding. This action adopts shared U.S./Canada quotas for these stocks for fishing year 2018 based on 2017 assessments and the recommendations of the Transboundary Management Guidance Committee (TMGC). The 2018 shared U.S./Canada quotas, and each country's allocation, are listed in Table 1. For a more detailed discussion of the TMGC's 2018 catch advice, see the TMGC's guidance document at: https://www.greateratlantic.fisheries.noaa.gov/sustainable/species/multispecies/announcements/2017tmgcguiddoc.pdf.

Table 1—Fishing Year 2018 U.S./Canada Quotas (mt, live weight) and Percent of Quota Allocated to Each Country
Quota | Eastern GB cod | Eastern GB haddock | GB Yellowtail flounder
Total Shared Quota | 951 | 40,000 | 300
U.S. Quota | 257 (27%) | 15,600 (39%) | 213 (71%)
Canadian Quota | 694 (73%) | 24,400 (61%) | 87 (29%)

The regulations implementing the U.S./Canada Resource Sharing Understanding require deducting any overages of the U.S. quota for eastern GB cod, eastern GB haddock, or GB yellowtail flounder from the U.S. quota in the following fishing year. If catch information for the 2017 fishing year indicates that the U.S. fishery exceeded its quota for any of the shared stocks, we will reduce the respective U.S. quotas for the 2018 fishing year in a future management action, as close to May 1, 2018, as possible. If any fishery that is allocated a portion of the U.S. quota (e.g., scallop fishery, sectors, or common pool) exceeds its allocation and causes an overage of the overall U.S. quota, the overage reduction would only be applied to that fishery's allocation in the following fishing year. This ensures that catch by one component of the overall fishery does not negatively affect another component of the overall fishery.

3. Catch Limits for the 2018-2020 Fishing Years

Summary of the Catch Limits

Framework 55 (81 FR 26412; May 2, 2016) adopted fishing year 2016-2018 catch limits for all groundfish stocks, except for the U.S./Canada stocks, which are set annually. Framework 56 (82 FR 35660; August 1, 2017) implemented fishing year 2017-2019 catch limits for witch flounder and 2017 U.S./Canada quotas. This rule adopts catch limits for the 2018-2020 fishing years for all groundfish stocks. The catch limits implemented in this action, including overfishing limits (OFL), acceptable biological catches (ABC), and annual catch limits (ACL), can be found in Tables 2 through 9. A summary of how these catch limits were developed, including the distribution to the various fishery components, was provided in the proposed rule and in Appendix II (Calculation of Northeast Multispecies Annual Catch Limits, FY 2018—FY 2020) to the Framework 57 Environmental Assessment, and is not repeated here.

The sector and common pool sub-ACLs implemented in this action are based on fishing year 2018 potential sector contributions (PSC) and final fishing year 2017 sector rosters. All permits enrolled in a sector, and the vessels associated with those permits, have until April 30, 2018, to withdraw from a sector and fish in the common pool for the 2018 fishing year. In addition to the enrollment delay, all permits that change ownership after December 1, 2017, may join a sector through April 30, 2018. We will publish final sector and common pool sub-ACLs based on final 2018 sector rosters as soon as practicable after the start of the 2018 fishing year. Initial 2018 sector allocations are being established in a separate, concurrent rulemaking.

Table 2—Fishing Years 2018-2020 Overfishing Limits and Acceptable Biological Catches
[Mt, live weight]
Stock | 2018: OFL | 2018: U.S. ABC | Percent change from 2017 | 2019: OFL | 2019: U.S. ABC | 2020: OFL | 2020: U.S. ABC
GB Cod | 3,047 | 1,591 | 139 | 3,047 | 2,285 | 3,047 | 2,285
GOM Cod | 938 | 703 | 41 | 938 | 703 | 938 | 703
GB Haddock | 94,274 | 48,714 | −15 | 99,757 | 48,714 | 100,825 | 73,114
GOM Haddock | 16,954 | 13,131 | 190 | 16,038 | 12,490 | 13,020 | 10,186
GB Yellowtail Flounder | UNK | 213 | 3 | UNK | 300 |  |
SNE/MA Yellowtail Flounder | 90 | 68 | −75 | 90 | 68 | 90 | 68
CC/GOM Yellowtail Flounder | 662 | 511 | 20 | 736 | 511 | 848 | 511
American Plaice | 2,260 | 1,732 | 30 | 2,099 | 1,609 | 1,945 | 1,492
Witch Flounder | UNK | 993 | 13 | UNK | 993 | UNK | 993
GB Winter Flounder | 1,083 | 810 | 7 | 1,182 | 810 | 1,756 | 810
GOM Winter Flounder | 596 | 447 | −45 | 596 | 447 | 596 | 447
SNE/MA Winter Flounder | 1,228 | 727 | −7 | 1,228 | 727 | 1,228 | 727
Redfish | 15,451 | 11,552 | 5 | 15,640 | 11,785 | 15,852 | 11,942
White Hake | 3,885 | 2,938 | −20 | 3,898 | 2,938 | 3,916 | 2,938
Pollock | 51,680 | 40,172 | 88 | 53,940 | 40,172 | 57,240 | 40,172
N. Windowpane Flounder | 122 | 92 | −49 | 122 | 92 | 122 | 92
S. Windowpane Flounder | 631 | 473 | −24 | 631 | 473 | 631 | 473
Ocean Pout | 169 | 127 | −23 | 169 | 127 | 169 | 127
Atlantic Halibut | UNK | 104 | −34 | UNK | 104 | UNK | 104
Atlantic Wolffish | 120 | 90 | 10 | 120 | 90 | 120 | 90
SNE/MA = Southern New England/Mid-Atlantic; CC = Cape Cod; N = Northern; S = Southern.
Note: An empty cell indicates no OFL/ABC is adopted for that year. These catch limits will be set in a future action.

Closed Area I Hook Gear Haddock Special Access Program

Overall fishing effort by both common pool and sector vessels in the Closed Area I Hook Gear Haddock Special Access Program (SAP) is controlled by an overall TAC for GB haddock, which is the target species for this SAP. The GB haddock TAC for the SAP is based on the amount allocated to this SAP for the 2004 fishing year (1,130 mt) and adjusted according to the change of the western GB haddock biomass in relationship to its size in 2004. Based on this formula, the GB Haddock TAC for this SAP is 2,511 mt for the 2018 fishing year. Once this overall TAC is caught, the Closed Area I Hook Gear Haddock SAP will be closed to all groundfish vessels for the remainder of the fishing year.

Table 3—Catch Limits for the 2018 Fishing Year
[Mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 1,519 | 1,360 | 1,335 | 25 |  |  |  |  | 16 | 143
GOM Cod | 666 | 610 | 377 | 13 | 220 |  |  |  | 47 | 9
GB Haddock | 46,312 | 44,659 | 44,348 | 311 |  | 680 |  |  | 487 | 487
GOM Haddock | 12,409 | 12,097 | 8,643 | 95 | 3,358 | 122 |  |  | 95 | 95
GB Yellowtail Flounder | 206 | 169 | 167 | 3 |  |  | 33.1 | 4.0 | 0.0 | 0.0
SNE/MA Yellowtail Flounder | 66 | 42 | 34 | 8 |  |  | 4 |  | 2 | 17
CC/GOM Yellowtail Flounder | 490 | 398 | 381 | 18 |  |  |  |  | 51 | 41
American Plaice | 1,649 | 1,580 | 1,550 | 29 |  |  |  |  | 35 | 35
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 10,986 | 10,755 | 10,696 | 59 |  |  |  |  | 116 | 116
White Hake | 2,794 | 2,735 | 2,713 | 22 |  |  |  |  | 29 | 29
Pollock | 38,204 | 37,400 | 37,163 | 237 |  |  |  |  | 402 | 402
N. Windowpane Flounder | 86 | 63 | na | 63 |  |  | 18 |  | 2 | 3
S. Windowpane Flounder | 457 | 53 | na | 53 |  |  | 158 |  | 28 | 218
Ocean Pout | 120 | 94 | na | 94 |  |  |  |  | 3 | 23
Atlantic Halibut | 100 | 77 | na | 77 |  |  |  |  | 21 | 2
Atlantic Wolffish | 84 | 82 | na | 82 |  |  |  |  | 1 | 1

Table 4—Catch Limits for the 2019 Fishing Year
[Mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 2,182 | 1,954 | 1,918 | 36 |  |  |  |  | 23 | 206
GOM Cod | 666 | 610 | 377 | 13 | 220 |  |  |  | 47 | 9
GB Haddock | 46,312 | 44,659 | 44,348 | 311 |  | 680 |  |  | 487 | 487
GOM Haddock | 11,803 | 11,506 | 8,222 | 90 | 3,194 | 116 |  |  | 91 | 91
GB Yellowtail Flounder | 291 | 239 | 235 | 4 |  |  | 47 | 6 | 0 | 0
SNE/MA Yellowtail Flounder | 66 | 32 | 26 | 6 |  |  | 15 |  | 2 | 17
CC/GOM Yellowtail Flounder | 490 | 398 | 381 | 18 |  |  |  |  | 51 | 41
American Plaice | 1,532 | 1,467 | 1,440 | 27 |  |  |  |  | 32 | 32
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 11,208 | 10,972 | 10,911 | 60 |  |  |  |  | 118 | 118
White Hake | 2,794 | 2,735 | 2,713 | 22 |  |  |  |  | 29 | 29
Pollock | 38,204 | 37,400 | 37,163 | 237 |  |  |  |  | 402 | 402
N. Windowpane Flounder | 86 | 63 |  | 63 |  |  | 18 |  | 2 | 3
S. Windowpane Flounder | 457 | 53 |  | 53 |  |  | 158 |  | 28 | 218
Ocean Pout | 120 | 94 |  | 94 |  |  |  |  | 3 | 23
Atlantic Halibut | 100 | 77 |  | 77 |  |  |  |  | 21 | 2
Atlantic Wolffish | 84 | 82 |  | 82 |  |  |  |  | 1 | 1

Table 5—Catch Limits for the 2020 Fishing Year
[Mt, live weight]
Stock | Total ACL | Groundfish sub-ACL | Preliminary sector sub-ACL | Preliminary common pool sub-ACL | Recreational sub-ACL | Midwater trawl fishery | Scallop fishery | Small-mesh fisheries | State waters sub- component | Other sub- component
GB Cod | 2,182 | 1,954 | 1,918 | 36 |  |  |  |  | 23 | 206
GOM Cod | 666 | 610 | 377 | 13 | 220 |  |  |  | 47 | 9
GB Haddock | 69,509 | 67,027 | 66,560 | 467 |  | 1,020 |  |  | 731 | 731
GOM Haddock | 9,626 | 9,384 | 6,705 | 74 | 2,605 | 95 |  |  | 74 | 74
GB Yellowtail Flounder |  |  |  |  |  |  | 0.0 | 0.0 | 0.0 | 0.0
SNE/MA Yellowtail Flounder | 66 | 31 | 25 | 6 |  |  | 16 |  | 2 | 17
CC/GOM Yellowtail Flounder | 490 | 398 | 381 | 18 |  |  |  |  | 51 | 41
American Plaice | 1,420 | 1,361 | 1,335 | 25 |  |  |  |  | 30 | 30
Witch Flounder | 948 | 849 | 830 | 19 |  |  |  |  | 40 | 60
GB Winter Flounder | 787 | 731 | 725 | 6 |  |  |  |  | 0 | 57
GOM Winter Flounder | 428 | 357 | 339 | 18 |  |  |  |  | 67 | 4
SNE/MA Winter Flounder | 700 | 518 | 456 | 62 |  |  |  |  | 73 | 109
Redfish | 11,357 | 11,118 | 11,057 | 61 |  |  |  |  | 119 | 119
White Hake | 2,794 | 2,735 | 2,713 | 22 |  |  |  |  | 29 | 29
Pollock | 38,204 | 37,400 | 37,163 | 237 |  |  |  |  | 402 | 402
N. Windowpane Flounder | 86 | 63 |  | 63 |  |  |  |  | 2 | 3
S. Windowpane Flounder | 457 | 53 |  | 53 |  |  | 158 |  | 28 | 218
Ocean Pout | 120 | 94 |  | 94 |  |  |  |  | 3 | 23
Atlantic Halibut | 100 | 77 |  | 77 |  |  |  |  | 21 | 2
Atlantic Wolffish | 84 | 82 |  | 82 |  |  |  |  | 1 | 1

Table 6—Fishing Years 2018-2020 Common Pool Trimester TACs
[Mt, live weight]
Stock | 2018: Trimester 1 | 2018: Trimester 2 | 2018: Trimester 3 | 2019: Trimester 1 | 2019: Trimester 2 | 2019: Trimester 3 | 2020: Trimester 1 | 2020: Trimester 2 | 2020: Trimester 3
GB Cod | 6.1 | 7.4 | 8.3 | 10.1 | 12.3 | 13.7 | 10.1 | 12.3 | 13.7
GOM Cod | 6.2 | 4.2 | 2.3 | 6.2 | 4.2 | 2.3 | 6.2 | 4.2 | 2.3
GB Haddock | 84.0 | 102.6 | 124.4 | 84.0 | 102.6 | 124.4 | 126.1 | 154.1 | 186.7
GOM Haddock | 25.6 | 24.7 | 44.6 | 24.4 | 23.5 | 42.4 | 19.9 | 19.1 | 34.6
GB Yellowtail Flounder | 0.5 | 0.8 | 1.3 | 0.7 | 1.1 | 1.9 |  |  |
SNE/MA Yellowtail Flounder | 1.7 | 2.3 | 4.2 | 1.3 | 1.7 | 3.2 | 1.3 | 1.7 | 3.1
CC/GOM Yellowtail Flounder | 10.0 | 4.6 | 3.0 | 10.0 | 4.6 | 3.0 | 10.0 | 4.6 | 3.0
American Plaice | 21.8 | 2.4 | 5.3 | 20.3 | 2.2 | 4.9 | 18.8 | 2.0 | 4.6
Witch Flounder | 10.4 | 3.8 | 4.7 | 10.4 | 3.8 | 4.7 | 10.4 | 3.8 | 4.7
GB Winter Flounder | 0.5 | 1.4 | 4.1 | 0.5 | 1.4 | 4.1 | 0.5 | 1.4 | 4.1
GOM Winter Flounder | 6.5 | 6.7 | 4.4 | 6.5 | 6.7 | 4.4 | 6.5 | 6.7 | 4.4
Redfish | 14.8 | 18.4 | 26.1 | 15.1 | 18.7 | 26.6 | 15.3 | 19.0 | 27.0
White Hake | 8.3 | 6.8 | 6.8 | 8.3 | 6.8 | 6.8 | 8.3 | 6.8 | 6.8
Pollock | 66.4 | 83.0 | 87.7 | 66.4 | 83.0 | 87.7 | 66.4 | 83.0 | 87.7
Note. For tables 3-6, an empty cell indicates that no catch limit has been set yet for these stocks, or that stock is not allocated to a fishery. These catch limits will be set in a future management action.

Table 7—Common Pool Incidental Catch TACs for the 2018-2020 Fishing Years
[Mt, live weight]
Stock | Percentage of common pool sub-ACL | 2018 | 2019 | 2020
GB Cod | 2 | 0.50 | 0.72 | 0.72
GOM Cod | 1 | 0.13 | 0.13 | 0.13
GB Yellowtail Flounder | 2 | 0.05 | 0.07 | 0.00
CC/GOM Yellowtail Flounder | 1 | 0.18 | 0.18 | 0.18
American Plaice | 5 | 1.47 | 1.37 | 1.27
Witch Flounder | 5 | 0.95 | 0.95 | 0.95
SNE/MA Winter Flounder | 1 | 0.62 | 0.62 | 0.62

Table 8—Percentage of Incidental Catch TACs Distributed to Each Special Management Program
Stock | Regular B DAS program | Closed Area I hook gear haddock SAP | Eastern US/CA haddock SAP
GB Cod | 50 | 16 | 34
GOM Cod | 100 |  |
GB Yellowtail Flounder | 50 |  | 50
CC/GOM Yellowtail Flounder | 100 |  |
American Plaice | 100 |  |
Witch Flounder | 100 |  |
SNE/MA Winter Flounder | 100 |  |
White Hake | 100 |  |
Note. DAS = day-at-sea.

Table 9—Fishing Years 2018-2020 Incidental Catch TACs for Each Special Management Program
[Mt, live weight]
Stock | Regular B DAS program: 2018 | Regular B DAS program: 2019 | Regular B DAS program: 2020 | Closed Area I hook gear haddock SAP: 2018 | Closed Area I hook gear haddock SAP: 2019 | Closed Area I hook gear haddock SAP: 2020 | Eastern U.S./Canada haddock SAP: 2018 | Eastern U.S./Canada haddock SAP: 2019 | Eastern U.S./Canada haddock SAP: 2020
GB Cod | 0.25 | 0.36 | 0.36 | 0.08 | 0.12 | 0.12 | 0.17 | 0.25 | 0.25
GOM Cod | 0.13 | 0.13 | 0.13 |  |  |  |  |  |
GB Yellowtail Flounder | 0.03 | 0.04 | 0.00 |  |  |  | 0.03 | 0.04 | 0.00
CC/GOM Yellowtail Flounder | 0.18 | 0.18 | 0.18 |  |  |  |  |  |
American Plaice | 1.47 | 1.37 | 1.27 |  |  |  |  |  |
Witch Flounder | 0.95 | 0.95 | 0.95 |  |  |  |  |  |
SNE/MA Winter Flounder | 0.62 | 0.62 | 0.62 |  |  |  |  |  |

4. Default Catch Limits for the 2021 Fishing Year

Framework 53 (80 FR 25110; May 1, 2015) established a mechanism for setting default catch limits in the event a future management action is delayed. Additional description of the default catch limit mechanism is provided in the preamble to the Framework 53 final rule. The default catch limits for 2021 are shown in Table 10. This final rule also corrects transcription errors in the 2021 default specifications published in the proposed rule. In the proposed rule, Table 10 was missing GB cod from the list of stocks and, as a result, the remaining stocks were listed next to the incorrect values.

The default limits would become effective May 1, 2021, until replaced by final specifications, although they will remain in effect only through July 31, 2021. The preliminary sector and common pool sub-ACLs in Table 10 are based on existing 2017 sector rosters and will be adjusted for new specifications beginning in fishing year 2021 based on rosters from the 2020 fishing year. In addition, prior to the start of the 2021 fishing year, we will evaluate whether any of the default catch limits announced in this rule exceed the Council's ABC recommendations for 2021. If necessary, we will announce adjustments prior to May 1, 2021.

Table 10—Default Specifications for the 2021 Fishing Year
[Mt, live weight]
Stock | U.S. ABC | Total ACL | Groundfish sub-ACL | Preliminary sector sub-ACL | Preliminary common pool sub-ACL | Midwater trawl fishery
GB Cod | 800 | 764 | 684 | 671 | 13 |
GOM Cod | 246 | 233 | 213 | 132 | 4 |
GB Haddock | 25,590 | 24,328 | 23,460 | 23,296 | 163 | 1,020
GOM Haddock | 3,565 | 3,369 | 3,284 | 2,347 | 26 | 95
GB Yellowtail Flounder | 0 | 0 | 0 | 0 | 0 |
SNE/MA Yellowtail Flounder | 24 | 23 | 11 | 9 | 2 |
CC/GOM Yellowtail Flounder | 179 | 172 | 139 | 133 | 6 |
American Plaice | 522 | 497 | 476 | 4679 | 9 |
Witch Flounder | 348 | 332 | 297 | 291 | 7 |
GB Winter Flounder | 284 | 276 | 256 | 254 | 2 |
GOM Winter Flounder | 156 | 150 | 125 | 119 | 6 |
SNE/MA Winter Flounder | 254 | 245 | 181 | 160 | 22 |
Redfish | 4,180 | 3,975 | 3,891 | 3,870 | 21 |
White Hake | 1,028 | 978 | 957 | 950 | 9 |
Pollock | 14,060 | 13,371 | 13,090 | 13,007 | 83 |
N. Windowpane Flounder | 32 | 30 | 22 | 0 | 22 |
S. Windowpane Flounder | 166 | 160 | 18 | 0 | 18 |
Ocean Pout | 44 | 42 | 33 | 0 | 33 |
Atlantic Halibut | 36 | 35 | 27 | 0 | 27 |
Atlantic Wolffish | 32 | 29 | 29 | 0 | 29 |

5. Revisions to Common Pool Trimester Allocations

The common pool sub-ACL for each stock (except for SNE/MA winter flounder, windowpane flounder, ocean pout, Atlantic wolffish, and Atlantic halibut) is further divided into trimester TACs. The percentages of the common pool sub-ACL allocated to each trimester, as determined in Amendment 16 (75 FR 18262; April 9, 2010), are shown in Table 11. The Council developed this initial distribution based on recent fishing effort at the time after considering the influence of regulatory changes on recent landings patterns. Amendment 16 specified that the trimester TAC apportionment could be adjusted on a biennial basis with specifications based on the most recent 5-year period available. Framework 57 grants the Regional Administrator authority to modify the trimester TAC apportionments, for stocks that have experienced early closures in Trimester 1 or 2, on a biennial basis using the process specified in Amendment 16.

Framework 57 also revises the apportionment of the common pool sub-ACL among the trimesters, using the calculation method specified in Amendment 16, for stocks that have experienced early closure in Trimester 1 or 2 since the 2010 fishing year. The stocks that meet these criteria are: GB cod; GOM cod; SNE/MA yellowtail flounder; Cape Cod/GOM yellowtail flounder; American plaice; and witch flounder. The Trimester 1 portion of the sub-ACL for each of these stocks is increased, with the exception of SNE/MA yellowtail, which remains unchanged. The trimester 2 portion of the sub-ACL for each of these stocks is reduced. The trimester 3 portion of the TAC is unchanged for GB cod; increased for SNE/MA yellowtail flounder; and decreased for GOM cod, Cape Cod/GOM yellowtail flounder, American plaice, and witch flounder. The new trimester TAC apportionments for these stocks are shown in Table 12 and were used in calculating the trimester TACs for 2018-2020 (see 3. Catch Limits for the 2018-2020 Fishing Years).

Table 11—Trimester TAC Apportionments Set in Amendment 16
Stock | Trimester 1 (%) | Trimester 2 (%) | Trimester 3 (%)
GB Cod | 25 | 37 | 38
GOM Cod | 27 | 36 | 37
GB Haddock | 27 | 33 | 40
GOM Haddock | 27 | 26 | 47
GB Yellowtail | 19 | 30 | 52
SNE/MA Yellowtail | 21 | 37 | 42
CC/GOM Yellowtail | 35 | 35 | 30
American Plaice | 24 | 36 | 40
Witch Flounder | 27 | 31 | 42
GB Winter | 8 | 24 | 69
GOM Winter | 37 | 38 | 25
Redfish | 25 | 31 | 44
White Hake | 38 | 31 | 31
Pollock | 28 | 35 | 37

Table 12—Revisions to Trimester TAC Apportionments
Stock | Trimester 1 (%) | Trimester 2 (%) | Trimester 3 (%)
GB Cod | 28 | 34 | 38
GOM Cod | 49 | 33 | 18
SNE/MA Yellowtail | 21 | 28 | 51
CC/GOM Yellowtail | 57 | 26 | 17
American Plaice | 74 | 8 | 18
Witch Flounder | 55 | 20 | 25

6. Adjustments Due to Fishing Year 2016 Overages

If the overall ACL is exceeded due to catch from vessels fishing in state waters outside of the FMP or from vessels fishing in non-groundfish fisheries that do not receive an allocation, the overage is distributed to the components of the fishery with an allocation. If a fishery component's catch and its share of the ACL overage exceed the component's allocation, then the applicable AMs must be implemented. In the case of the commercial groundfish fishery, the AMs require a reduction of the sector or common pool sub-ACL following an overage.

In fishing year 2016, the overall ACL was exceeded for witch flounder, GB cod, and GOM cod (Table 13). The proposed rule included a description of fishing year 2016 catch overages and required adjustments to fishing year 2018 allocations, and is not repeated here. This final rule corrects transcription errors in the 2016 ABC and ACL for witch flounder published in the proposed rule. Table 13 includes the corrected values. Although the ABC and ACL values were listed incorrectly in the proposed rule, the catch, overage, and amount to be paid back were correct. The proposed revised 2018 allocations were correct. Therefore, this correction does not affect fishery operations. These adjustments to the 2018 allocations are not part of Framework 57. We are including them in conjunction with Framework 57 measures for expediency purposes, and because they relate to the catch limits included in Framework 57.

Each sub-component's payback amounts for these stocks is shown in Table 14. Revised 2018 allocations, incorporating these payback amounts, are shown in Table 15. These revised allocations were incorporated in the quotas set for 2018 (see 3. Catch Limits for the 2018-2020 Fishing Years).

Table 13—2016 ABCs, ACLs, Catch, and Overages
[Mt, live weight]
Stock | U.S. ABC | Total ACL | Catch | Overage | Amount to be paid back
GB Cod | 762 | 730 | 1,132.1 | 402.1 | 165.97
GOM Cod | 500 | 473 | 633.7 | 160.7 | 37.66
Witch Flounder | 460 | 441 | 460.3 | 19.3 | 19.20

Table 14—2016 Payback Amounts
[Mt, live weight]
Stock | Total | Sector | Common pool | Recreational
GB Cod | 402.1 | 162.57 | 3.40 | n/a
GOM Cod | 160.7 | 21.05 | 0.00 | 16.61
Witch Flounder | 19.3 | 19.15 | 0.05 | n/a
Note: “n/a” indicates that the stock is not allocated to that sub-component of the fishery. A value of 0.00 indicates that no payback is required.

Table 15—Revised 2018 Allocations
[Mt, live weight]
Stock | Total ACL | Groundfish sub-ACL | Initial preliminary sector sub-ACL | Revised preliminary sector sub-ACL | Initial preliminary common pool sub-ACL | Revised preliminary common pool sub-ACL
GB Cod | 1,519 | 1,360 | 1,335.17 | 1,172.61 | 25.13 | 21.73.
GOM Cod | 666 | 610 | 376.92 | 355.87 | 12.73 | unchanged.
Witch Flounder | 948 | 849 | 830.09 | 810.94 | 18.93 | 18.88.

7. Revisions to Atlantic Halibut Accountability Measures

As described in the proposed rule and Environmental Assessment, the FMP includes two reactive AMs for Atlantic halibut that affect the Federal commercial groundfish fishery. If the Atlantic halibut ACL is exceeded by an amount greater than the uncertainty buffer (i.e., the ABC is exceeded), then commercial groundfish vessels are prohibited from retaining Atlantic halibut and are required to use selective gear in several areas (Figure 1). When the Atlantic halibut AM is triggered, trawl vessels fishing in the Atlantic Halibut Trawl Gear AM Area may only use a haddock separator trawl, a Ruhle trawl, a rope separator trawl, or other approved gear. When in effect, groundfish vessels with gillnet or longline gear may not fish or be in the Atlantic Halibut Fixed Gear AM Areas, unless transiting with gear stowed or using approved gear.

This action extends the zero-possession AM to all Federal permit holders (including federally permitted scallop, lobster, and highly migratory species general category vessels). Vessels issued only a charter/party permit for any species, an Atlantic highly migratory species angling permit, and/or an Atlantic highly migratory species charter/headboat permit are exempt from the zero-possession AM. For example, a vessel issued a Northeast multispecies charter/party permit and a bluefish charter/party permit would be exempt from the AM, but a vessels issued a Northeast multispecies charter/party permit and a commercial bluefish permit would not be exempt from the AM. The intent of expanding the AM is to facilitate enforcement of Federal fishery limits and reduce the catch of halibut by federally permitted vessels not currently subject to the AM. This measure is expected to increase the probability that catch will be below the ACL by reducing potentially illegal catch in Federal waters and legal directed fishing effort by federally permitted vessels.

Framework 57 also modifies the gear-restricted AM areas for Federal groundfish vessels based on the best available science. Based on an updated evaluation of Atlantic halibut encounter rates, the existing AM areas are changed to allow access to places and times where Atlantic halibut encounter rates are low while protecting areas and times where encounter rates are highest. This would allow groundfish trawl and fixed gear vessels additional flexibility while continuing to reduce catch of halibut when the AMs are triggered (Figure 2). This action eliminates the Fixed Gear AM Area 1 on Stellwagen Bank; exempts longline gear from Fixed Gear AM Area 2 on Platts Bank; allows gillnet gear in Fixed Gear AM Area 2 from November through February; and allows standard trawl gear in the Trawl Gear AM Area between 41 degrees 40 minutes N latitude and 42 degrees N latitude from April through July (see dashed line in Figure 2). These modifications are expected to continue to protect the Atlantic halibut stock due to the low encounter rates and low catch rates in the seasons and areas included, and will preserve fishing opportunities for vessels targeting other species.

BILLING CODE 3510-22-P

BILLING CODE 3510-22-C

8. Revisions to Southern Windowpane Flounder AMs for Non-Groundfish Trawl Vessels

Based on an updated evaluation of the existing AM areas, the AM areas for non-groundfish vessels are revised to more closely tailor the areas to where southern windowpane are being encountered. Framework 57 also applies measures, similar to those used in the groundfish fishery, to scale the size of the AM area based on the condition of the stock and catch in the year after the overage, but does not alter the AM trigger. Additionally, Framework 57 allows for reducing the duration of an AM for non-groundfish vessels when merited by biological or operational conditions, similar to how the AMs are applied to groundfish vessels.

The southern windowpane flounder AMs are gear restricted areas that affect groundfish trawl vessels and non-groundfish trawl vessels using a codend mesh size of 5 inches (12.7 cm) or greater (see Figure 3). This includes vessels that target summer flounder, scup, and skates. The AM for large-mesh non-groundfish fisheries is implemented if the total ACL is exceeded by more than the management uncertainty buffer and catch by the other sub-component exceeds what was expected. When the AM is triggered, large-mesh non-groundfish vessels fishing with trawl gear with codend mesh size of 5 inches (12.7 cm) or greater are required to use selective trawl gear to minimize the catch of flatfish in the AM areas. Approved gears include the separator trawl, Ruhle trawl, mini-Ruhle trawl, and rope trawl, which are inefficient at catching the species targeted by the non-groundfish large-mesh trawl fleet. The FMP includes several provisions that allow a reduction in the size and duration of the AM for groundfish vessels if certain stock status criteria are met. This action implements similar areas and reduced duration provisions for the large mesh non-groundfish fleet and modifies the current gear restricted areas that would apply to the non-groundfish fleet when an AM is triggered.

Reducing the Size of the AM

Framework 57 will scale the size of the AM areas based on the condition of the stock and catch in the year after the overage. Similar to the AM for the groundfish fishery, when the stock is rebuilt and the biomass criterion (described in the proposed rule and Environmental Assessment) is greater than the fishing year catch, the small AM areas may be implemented in lieu of the large AM areas. These modifications allow additional flexibility for affected vessels while continuing to reduce impacts on the southern windowpane stock, similar to provisions already implemented for the groundfish fishery.

If we determine that the biological and catch criteria are met, the small AM area would be implemented rather than the large AM area. This AM trigger better accounts for the uncertainty associated with this index-based stock because it evaluates an overage in the context of the biomass and exploitation trends in the stock assessment. As explained in the Environmental Assessment, using survey information to determine the size of the AM is appropriate because windowpane flounder is assessed with an index-based method, possession is prohibited, and the ABCs and ACLs are not based on a projection that accounts for possible increases in biomass over time. This change is expected to minimize the economic impacts of the AM for a rebuilt stock, while still correcting for operational issues contributing to the overage and mitigating potential biological consequences.

Reducing the Duration of the AM

Framework 57 also grants the Regional Administrator authority to remove the southern windowpane flounder AM early for non-groundfish trawl vessels if operational criteria are met. If an overage in year 1 triggers the AM for year 3, and we determine that the applicable windowpane flounder ACL was not exceeded in year 2, then the Regional Administrator would be authorized to remove the AM on or after September 1 once year-end data for year 2 are complete. This reduced duration would not occur if we determine during year 3 that a year 3 overage of the southern windowpane flounder ACL has occurred. This provision was already implemented for the groundfish fishery.

Modification of the Gear-Restricted Areas

In addition to scaling the size of the AM area based on the condition of the stock and catch in the year after the overage, and allowing for reducing the duration of an AM for non-groundfish vessels when merited by current stock conditions and catch amounts, this action also revises the area and season of the AM areas for non-groundfish trawl vessels using a codend mesh size of 5 inches (12.7 cm) or greater based on an updated evaluation of the existing AM areas using recent data (see Figure 4). The geographic area of the small AM area remains unchanged, but the AM will be in effect from September through April, rather than the entire fishing year. The large AM area south of Long Island also remains unchanged, but the large AM area east of Long Island is reduced to a smaller geographic area made up of the small AM area and the eastern most 10-minute square of the current large AM area. Both large AM areas will be closed year-round when triggered. These changes do not affect the AM areas applicable to groundfish trawl vessels. Based on recent data, these modifications are likely to have minimal impacts on the southern windowpane flounder stock because of the low bycatch ratios documented in the areas that would no longer be closed. The revised areas are intended to provide additional opportunities for the non-groundfish fleet to pursue target stocks, while still maintaining the necessary conservation benefits of the AMs.

BILLING CODE 3510-22-P

BILLING CODE 3510-22-C

9. Revision to the SNE/MA Yellowtail Flounder AMs for Scallop Vessels

The scallop fishery is allocated sub-ACLs for four stocks: GB yellowtail flounder; SNE/MA yellowtail flounder; northern windowpane flounder; and southern windowpane flounder. If the scallop fishery exceeds its sub-ACL for these stocks, it is subject to AMs that, in general, restrict the scallop fishery in seasons and areas with high encounter rates for these stocks. Framework 47 (77 FR 26104; May 2, 2012) established a policy for triggering scallop fishery AMs. Framework 56 (82 FR 35660; August 1, 2017) made a change to this policy for GB yellowtail flounder and northern windowpane flounder for the 2017 and 2018 fishing years. This action expands that change to the SNE/MA yellowtail flounder stock for the 2018 fishing year.

For fishing year 2018, the AM for the scallop fishery's sub-ACL would be triggered only if the scallop fishery's sub-ACL and the overall ACL for the stock is exceeded. This change is intended to provide flexibility for the scallop fishery to better achieve optimal yield, despite a reduction in the ACL, while continuing to prevent overfishing. In recent years, a significant portion of the overall ACL has remained uncaught as groundfish vessels have reduced their catch. The likelihood of overfishing occurring significantly increases only if the total ACL is exceeded. Exceeding the total ACL would trigger the AM to prevent subsequent ACL overages and correct the cause of the overage. This measure provides the scallop fishery with flexibility to adjust to current catch conditions while still providing an incentive to avoid yellowtail flounder. To align with changes to the AM triggers for GB yellowtail flounder and northern windowpane flounder, and to reduce the potential risk for the groundfish fishery, this change would be effective for 1 year.

10. Recreational Fishery Measures

The recreational fishery does not have an allocation of GB cod, and as a result, no AMs apply to this fishery in the event of an ACL overage. Recreational fishery management measures were designed and put in place to control recreational catch in 2010 through Amendment 16. The current recreational minimum size for GB cod is 22 inches (55.9 cm), and private recreational vessels have a possession limit of 10 fish per person per day. There is no possession limit for charter or party vessels.

In response to increasing recreational catch in recent years and an unusually high recreational catch estimate in 2016 that contributed to an ACL overage, the Council calculated a recreational catch target for GB cod of 138 mt for 2018-2020. This catch target was calculated using the average catch (landings and discards) of the most recent 5 calendar years included in the GB cod stock assessment. This catch target was used in setting the values of the state and other sub-components (see Appendix II of the Environmental Assessment) and helps to gauge what measures may be necessary to limit catch to the target amount to avoid future overages. To facilitate preventing future overages of the GB cod ACL, Framework 57 gives the Regional Administrator authority to set recreational measures for fishing years 2018 and 2019 to prevent the recreational catch target from being exceeded. After consultation with the Council, any changes to recreational measures would be made consistent with the Administrative Procedure Act. However, no changes to recreational measures are included in this action. A separate rule published March 22, 2018, (83 FR 12551) proposed GOM cod and haddock and GB cod recreational management measures for the 2018 fishing year. Those measures will also be finalized in a separate rule.

11. Fishing Year 2018 Annual Measures Under Regional Administrator Regulatory Authority

The Northeast Multispecies FMP regulations give us authority to implement certain types of management measures for the common pool fishery, the U.S./Canada Management Area, and Special Management Programs on an annual basis, or as needed. This action implements a number of these management measures for the 2018 fishing year. These measures are not part of Framework 57, and were not specifically proposed by the Council. We are implementing them in conjunction with Framework 57 measures in this action for expediency purposes, and because they relate to the catch limits in Framework 57.

Common Pool Trip Limits

Tables 16 and 17 provide a summary of the current common pool trip limits for fishing year 2017 and the initial trip limits implemented for fishing year 2018. The 2018 trip limits were developed after considering changes to the common pool sub-ACLs and potential sector enrollment, trimester TACs for 2018, catch rates of each stock during 2017, and other available information.

The default cod trip limit is 300 lb (136 kg) for Handgear A vessels and 75 lb (34 kg) for Handgear B vessels. If the GOM or GB cod landing limit for vessels fishing on a groundfish day-at-sea (DAS) drops below 300 lb (136 kg), then the respective Handgear A cod trip limit must be reduced to the same limit. Similarly, the Handgear B trip limit must be adjusted proportionally (rounded up to the nearest 25 lb (11 kg)) to the DAS limit. This action implements a GOM cod landing limit of 50 lb (23 kg) per DAS for vessels fishing on a groundfish DAS, which is 94 percent lower than the default limit specified in the regulations for these vessels (800 lb (363 kg) per DAS). As a result, the Handgear A trip limit for GOM cod is reduced to 50 lb (23 kg) per trip, and the Handgear B trip limit for GOM cod is maintained at 25 lb (11 kg) per trip. This action implements a GB cod landing limit of 100 lb (45 kg) per DAS for vessels fishing on a groundfish DAS, which is 95 percent lower than the 2,000-lb (907-kg) per DAS default limit specified in the regulations for these vessels. As a result, the Handgear A trip limit for GB cod is 100 lb (45 kg) per trip, and the Handgear B trip limit for GB cod is 25 lb (11 kg) per trip.

Vessels with a Small Vessel category permit may possess up to 300 lb (136 kg) of cod, haddock, and yellowtail, combined, per trip. For the 2018 fishing year, we are setting the maximum amount of GOM cod and haddock (within the 300-lb (136-kg) trip limit) equal to the possession limits applicable to multispecies DAS vessels (see Table 16). This adjustment is necessary to ensure that the trip limit applicable to the Small Vessel category permit is consistent with reductions to the trip limits for other common pool vessels, as described above.

Table 16—Common Pool Trip Limits for the 2018 Fishing Year
Stock | Current 2017 trip limit | 2018 Trip limit
GB Cod (outside Eastern U.S./Canada Area) | Possession Prohibited | 100 lb (45 kg) per DAS, up to 200 lb (91 kg) per trip.
GB Cod (inside Eastern U.S./Canada Area) |  | 100 lb (45 kg) per DAS, up to 500 (227 kg) lb per trip.
GOM Cod | 25 lb (11 kg) per DAS, up to 100 lb (45 kg) per trip | 50 lb (23 kg) per DAS, up to 100 lb (45 kg) per trip.
GB Haddock | 100,000 lb (45,359 kg) per trip.
GOM Haddock | 500 lb (227 kg) per DAS, up to 1,000 lb (454 kg) per trip | 1,000 lb (454 kg) per DAS, up to 2,000 lb (907 kg) per trip.
GB Yellowtail Flounder | 100 lb (45 kg) per trip.
SNE/MA Yellowtail Flounder | 500 lb (227 kg) per DAS, up to 1,000 lb per trip | 100 lb (45 kg) per DAS, up to 200 lb (91 kg) per trip.
Cape Cod (CC)/GOM Yellowtail Flounder | 750 lb (340 kg) per DAS, up to 1,500 lb (680 kg) per trip.
American plaice | 500 lb (227 kg) per trip | 750 lb (340 kg) per DAS, up to 1,500 lb (680 kg) per trip.
Witch Flounder | 400 lb (181 kg) per trip.
GB Winter Flounder | 250 lb (113 kg) per trip.
GOM Winter Flounder | 2,000 lb (907 kg) per trip | 1,000 lb (454 kg) per trip.
SNE/MA Winter Flounder | 2,000 lb (907 kg) per DAS, up to 4,000 lb (1,814 kg) per trip.
Redfish | Unlimited.
White hake | 1,500 lb (680 kg) per trip.
Pollock | Unlimited.
Atlantic Halibut | 1 fish per trip.
Windowpane Flounder | Possession Prohibited.
Ocean Pout
Atlantic Wolffish

Table 17—Cod Trip Limits for Handgear A, Handgear B, and Small Vessel Category Permits for the 2018 Fishing Year
Permit | Current 2017 trip limit | 2018 Trip limit
Handgear A GOM Cod | 25 lb (11 kg) per trip | 50 lb (23 kg) per trip.
Handgear A GB Cod | Possession Prohibited | 100 lb (45 kg) per trip.
Handgear B GOM Cod | 25 lb (11 kg) per trip.
Handgear B GB Cod | Possession Prohibited | 25 lb (11 kg) per trip.
Small Vessel Category | 300 lb (136 kg) of cod, haddock, and yellowtail flounder combined; additionally, vessels are limited to the common pool DAS limit for all stocks.

Closed Area II Yellowtail Flounder/Haddock SAP

This action allocates zero trips for common pool vessels to target yellowtail flounder within the Closed Area II Yellowtail Flounder/Haddock SAP for fishing year 2018. Vessels may still fish in this SAP in 2018 to target haddock, but must fish with a haddock separator trawl, a Ruhle trawl, or hook gear. Vessels may not fish in this SAP using flounder trawl nets. This SAP is open from August 1, 2018, through January 31, 2019.

We have the authority under the FMP's regulations to determine the allocation of the total number of trips into the Closed Area II Yellowtail Flounder/Haddock SAP based on several criteria, including the GB yellowtail flounder catch limit and the amount of GB yellowtail flounder caught outside of the SAP. The FMP specifies that no trips should be allocated to the Closed Area II Yellowtail Flounder/Haddock SAP if the available GB yellowtail flounder catch is insufficient to support at least 150 trips with a 15,000-lb (6,804-kg) trip limit (or 2,250,000 lb (1,020,600 kg)). This calculation accounts for the projected catch from the area outside the SAP. Based on the fishing year 2018 GB yellowtail flounder groundfish sub-ACL of 372,581 lb (169,000 kg), there is insufficient GB yellowtail flounder to allocate any trips to the SAP, even if the projected catch from outside the SAP area is zero. Further, given the low GB yellowtail flounder catch limit, catch rates outside of this SAP are more than adequate to fully harvest the 2018 GB yellowtail flounder allocation.

12. Administrative Regulatory Corrections Under Secretarial Authority

The following change is being made using Magnuson-Stevens Fishery Conservation and Management Act section 305(d) authority to ensure that FMPs or amendments are implemented in accordance with the Magnuson-Stevens Act. This rule corrects a minor error in the regulations that specify the apportionment of the common pool sub-ACLs among the trimesters. This change to the regulations is necessary to correct a rounding error and ensure that not more than 100 percent of the common pool sub-ACL is allocated among the trimesters. In § 648.82(n), the proportions of the common pool sub-ACLs allocated to each trimester for GB yellowtail flounder and GB winter flounder are corrected to sum to 100 percent to address a previous rounding error.

13. Comments and Responses on Measures Proposed in the Framework 57 Proposed Rule

We received 15 comments on the Framework 57 proposed rule. Public comments were submitted by the Conservation Law Foundation, the National Party Boat Owners Alliance, the New England Fishery Management Council, the Northeast Hook Fisherman's Association, the Northeast Seafood Coalition, and ten individuals. Only comments that were applicable to the proposed measures are addressed below. Comments received on the proposed recreational measures for fishing year 2018 (83 FR 12551; March 22, 2018) that related to measures in Framework 57 are included in the comments and responses below. Consolidated responses are provided to similar comments on the proposed measures.

Catch Limits for Fishing Years 2018-2020

Comment 1: Two individuals generally opposed increasing any stock's ABC. The Conservation Law Foundation opposed the ABC increases for GB cod and GOM cod; and stated the increases were inconsistent with National Standards 1 and 2, and that a precautionary approach was necessary due to warming in the Gulf of Maine and illegal discarding. The Northeast Seafood Coalition commented in support of the catch limits included in Framework 57, but also raised concerns about using 3-year constant ABCs as a replacement for ABC projections. Further, it stated that, in the future, the constant catch approach should be reevaluated in the context of the cost of forfeited yields measured against realized and quantifiable biomass responses.

Response 1: We disagree that the ABCs in this action are not consistent with National Standards 1 and 2. The approved 2018-2020 ABCs and ACLs are based on peer-reviewed 2017 stock assessments and the recommendations of the Council's Scientific and Statistical Committee (SSC), consistent with the National Standard 2 requirement to use the best scientific information available. Further, the ABCs and ACLs were calculated to prevent overfishing while achieving optimum yield, as required by National Standard 1, and they are consistent with current rebuilding programs.

The 2017 assessments for GB cod and GOM cod cite accuracy and completeness of catch (including discards) along with the estimate of natural mortality (which could include effects from warming in the Gulf of Maine) as important sources of uncertainty. The SSC considered scientific uncertainty, including accuracy of catch and natural mortality estimates, in setting catch advice for both cod stocks and used the Council's ABC control rule in the absence of better information that would allow a more explicit determination of scientific uncertainty. In both cases, the SSC recommended a 3-year constant catch to help account for uncertainty in the catch projections that are often overly optimistic in the out years. Future stock growth is often projected to be higher than what is realized. As a result, the SSC's ABC recommendations in many cases are lower than the projected output. Future benchmark assessments would be expected to consider any additional information on catch estimate accuracy and estimates of natural mortality that are not included in operational assessment updates.

As explained in Appendix I to the Environmental Assessment, in recent years, the SSC has either used the default control rule for a groundfish stock or applied other approaches tailored to address particular elements of scientific uncertainty. One example of a tailored approach is the use of constant catch levels. The Council's Groundfish Plan Development Team (PDT) used the outcomes of operational assessments to develop OFL and ABC alternatives for the SSC to consider using either the defined ABC control rule, approaches tailored for particular stocks in recent specification setting, or recommendations from the peer review panel. The SSC also developed new approaches for some stocks based on its evaluation of uncertainty and attributes of the available science. The SSC routinely uses a constant catch approach and has recommended formally adopting this approach as part of the SSC's control rules.

The catch limits implemented in this rule, based on the SSC's recommendation, practicably mitigate economic impacts consistent with Magnuson-Stevens Act requirements. Ignoring an alternative that meets conservation objectives of the Magnuson-Stevens Act that could help mitigate some of the substantial economic impacts of recent groundfish management actions would not be consistent with National Standard 8. Groundfish vessels catch cod along with other stocks in this multispecies fishery. As a result, a lower ABC could also jeopardize achieving optimum yield for the groundfish fishery compared to the ABCs approved in this final rule.

Comment 2: Two individuals commented that the GOM cod quota for 2018-2020 is too low, with one individual stating that the rapid quota decreases and increases cannot reflect real circumstances, and that it is hard to avoid cod while fishing for haddock, pollock, and flounders. The Northeast Seafood Coalition also stated that the 2017 stock assessments do not explain why fishermen see different fish populations than the assessments.

Response 2: We disagree. Information from multiple fishery-independent surveys conducted by independent groups show similar trends in the GOM cod stock. According to the 2017 assessment, the GOM cod stock shows a truncated size and age structure, consistent with a population experiencing high mortality. Additionally, there are no positive signs of incoming recruitment, continued low survey indices, and the current spatial distribution of the stock is considerably less than its historical range within the Gulf of Maine. Because the GOM cod population has contracted to concentrated areas near the coast, fishermen encounter these fish in what may be higher numbers than they have recently experienced. However, that does not accurately represent the overall population because cod are absent from large areas of their historic range. As explained in the Environmental Assessment (see ADDRESSES), projections show an increase in spawning stock biomass after fishing year 2018 if the approved ABC is caught.

Revisions to Common Pool Trimester Allocations

Comment 3: The Northeast Hook Fisherman's Association supported the revised trimester allocations based on recent data to address closures in Trimesters 1 and 2.

Response 3: We agree. For the reasons discussed in the preamble, we have approved the changes to the trimester allocations. These changes are intended to ensure the trimester allocations reflect recent fishing effort and help avoid inseason fishery closures. As a result, this improvement to common pool management measures will likely provide additional fishing opportunities for common pool vessels compared to the current trimester allocation.

Adjustments Due to Fishing Year 2016 Overages

Comment 4: Two individuals commented that the commercial sub-ACL for GB cod is being reduced for an overage that might not have happened because of errors in the recreational catch data from the Marine Recreational Information Program (MRIP).

Response 4: Based on the final report for the 2016 fishing year, catch of GB cod exceeded the ACL by 54 percent (396 mt) and the ABC by 48 percent (364 mt). A minimal overage of the common pool sub-ACL and higher than expected catches by the state and other subcomponents also contributed to the GB cod overage. The majority of state waters catch and the other sub-component catch is from the recreational fishery. As described in our March 20, 2018, letter to the Council, we revised the method for calculating the recreational GB cod catch that we consider when determining if an overage has occurred. The 3-year average was used to estimate recreational GB cod catch in the state and other sub-components to better account for the variability and uncertainty associated with the MRIP recreational catch estimates. This method is consistent with how we evaluate catch from other recreational fisheries that do not have a sub-ACL.

Revisions to Atlantic Halibut Accountability Measures

Comment 5: The Northeast Seafood Coalition supported all of the changes to the Atlantic halibut AMs.

Response 5: We agree. For the reasons discussed in the preamble, we have approved the changes to the Atlantic halibut AMs. Extending the zero-possession halibut AM to all Federal permit holders will reduce the catch of halibut by federally-permitted vessels not currently subject to the AM and facilitate enforcement of Federal fishery limits to increase the probability that catch will be below the ACL. Modifying the gear-restricted halibut AM areas for Federal groundfish vessels will provide groundfish vessels additional flexibility while continuing to reduce catch of halibut when the AMs are triggered.

Comment 6: The Northeast Seafood Coalition commented that many fishermen affected by the changes to the Atlantic halibut AMs were not aware of the potential changes until late in the development of Framework 57 because updated data was provided late in the development of the framework. The Northeast Seafood Coalition recommended addressing this by considering further modifications in the future.

Response 6: We agree that the Council may consider further modifications in the future if it chooses to do so. We encourage individuals to raise these concerns to the Council. For Framework 57, there was ample opportunity for public participation and comment on these matters. Potentially applying halibut AMs to all Federal permit holders was discussed in at least five public meetings and available for public participation over the entire 5½-month period of the Framework beginning in June 2017, and culminating in the Council's final vote to submit Framework 57 on December 5, 2017. During that time, these matters were first discussed at the June 20, 2017, Council meeting that initiated Framework 57, then developed and discussed by the PDT and the Groundfish Oversight Committee. The PDT provided the Committee with written information about expanding the zero-possession AM to other Federal permit holders in a September 20, 2017, memorandum. The Council voted on September 27, 2017, to include these measures in Framework 57, but did not take a final vote to submit Framework 57 to NMFS until December 5, 2017. Each of these meetings provided opportunity for public comment on the proposed changes to the halibut AMs, in addition to the comment period provided by this rulemaking.

Comment 7: One individual commented that exclusion from the zero-possession AM should apply to all recreational groundfish trips, including charter or party trips by vessels issued a limited access Northeast multispecies permit, and suggested that had been the Council's intent.

Response 7: We disagree. On Tuesday December 5, 2017, the Council discussed revising the Atlantic halibut AMs to apply to all vessels issued a Federal permit. The Council specifically considered the impact of this issue on commercial Federal groundfish vessels operating as for-hire vessels during development of the rule and approved the AM, as written in the proposed rule and approved in this final rule, as necessary to implement Framework 57. The application of the zero-possession halibut AM is reasonably calibrated to facilitate enforcement and limit Federal catch to the stock's ACL. The Council's deliberations involved a careful consideration of the measure's effectiveness in achieving its goals, the measure's impacts compared to reasonable alternatives, and supports their decision.

Revisions to Southern Windowpane Flounder Accountability Measures

Comment 8: One individual opposed the changes to the southern windowpane flounder AMs. The commenter stated that to prevent overfishing, the size of the AM area that is implemented should be based on the stock conditions during the overage, rather than at the time the AMs are implemented.

Response 8: We disagree. Accountability measures are management controls to prevent ACLs from being exceeded and correct or mitigate overages if they occur. When an ACL is exceeded, the AM must be implemented as soon as possible to correct the operational issue that caused the overage as well as any known biological consequences from the overage. As explained in the Environmental Assessment, using survey information to determine the size of the AM is appropriate because windowpane flounder is assessed with an index-based method, possession is prohibited, and the ABCs and ACLs are not based on a projection that accounts for possible increases in biomass over time. Using the most up to date information for the revised AM better accounts for potential biological consequences of the overage. It evaluates an overage in the context of the biomass and exploitation trends in the most recent stock assessment and is consistent with using the best available science. As a result, the AM mitigation is more closely tailored to the biological effect from the overage.

Comment 9: The Northeast Seafood Coalition supported the revisions to the southern windowpane flounder AMs.

Response 9: We agree. For the reasons discussed in the preamble, we have approved the changes to the southern windowpane flounder AMs. These changes are expected to minimize the economic impacts of the AM for a rebuilt stock, consistent with National Standards, while still correcting for any overage and mitigating potential biological consequences. The additional flexibility this provides to non-groundfish vessels, including vessels that target summer flounder, scup, and skates, will provide additional opportunities to achieve optimal yield in those fisheries while preventing overfishing.

Revision to the Southern New England/Mid-Atlantic Yellowtail Flounder Accountability Measures

Comment 10: The Northeast Seafood Coalition supported the revisions to the SNE/MA yellowtail flounder AMs.

Response 10: We agree. For the reasons discussed in the preamble, we have approved the changes to the SNE/MA yellowtail flounder AMs. This change provides flexibility for the scallop fishery to better achieve optimal yield, despite a reduction in the SNE/MA yellowtail flounder ACL, while continuing to prevent overfishing. This measure provides the scallop fishery with flexibility to adjust to current catch conditions while still providing an incentive to avoid yellowtail flounder.

Recreational Fishery Measures

Comment 11: The Northeast Seafood Coalition supported setting a recreational catch target for GB cod, using the average of the most recent five calendar years of catch to set the target, and granting the Regional Administrator authority to set recreational measures for GB cod for fishing years 2018 and 2019 to prevent the target from being exceeded. One individual supported reducing recreational fishing when there are sudden spikes in catch, but only if failing to constrain the recreational catch would cause significant economic or environmental harm. Two individuals commented that no action is needed on recreational measures for GB cod because the fishing year 2017 data shows that catch is down significantly from 2016.

Response 11: For the reasons explained in the preamble, we have approved the 138-mt recreational catch target, and granting the Regional Administrator authority to set recreational measures for GB cod for fishing years 2018 and 2019 to prevent the target from being exceeded. Preliminary recreational catch data from 2017 does show a reduction in catch from 2016, but the Council chose to set a recreational catch target to limit recreational catch to recent levels based on the trend of increasing recreational catch and the impact that increased catch has had on the commercial fishery. This action alone does not constrain recreational fishing. Instead, it provides authority to the Regional Administrator to constrain catch when necessary to prevent ACLs from being exceeded and to prevent overfishing. The Regional Administrator will be able to carefully consider the degree to which recreational fishing may need to be constrained using the most up to date information. This will provide an opportunity to use measures that are well designed to address the nature and extent of the recreational fishery's contribution to any potential overage.

Comment 12: One individual commented that the Council should have used the most recent five fishing years, rather than calendar years, to set the GB cod catch target for 2018-2020. Two individuals commented in opposition to setting a constant GB cod recreational catch target for three years and commented that the target should increase annually along with sub-ACLs and sub-components. Two individuals commented that the GB cod recreational catch target should not be based on the recreational catch data from MRIP because the data is flawed and variable.

Response 12: We disagree. The Council specifically chose to use the most recent five calendar years of recreational catch used in the 2017 stock assessment to be consistent with the MRIP source of data for setting sub-ACLs and sub-components. As explained in the Environmental Assessment and the preamble, the Council used a 5-year average to reflect the recent character of the fishery, and to account for the variability of catch and uncertainty of catch data. The Council's decision to set a catch target provides an objective metric that facilitates the Regional Administrator determining whether to use the authority granted to liberalize or constrain the recreational fishery to achieve, but not exceed, the catch target based on the most up to date information.

Changes From the Proposed Rule

This final rule contains a number of minor corrections from the proposed rule. In section 4 Default Catch Limits for the 2021 Fishing Year, Table 10 of this final rule corrects transcription errors in the 2021 default specifications published in the proposed rule. Table 10 in the proposed rule was missing GB cod from the list of stocks and, as a result, the default specifications for the remaining stocks were listed next to the incorrect values.

In section 6, Adjustments Due to Fishing Year 2016 Overages, Table 13 of this final rule corrects transcription errors in the 2016 ABC and ACL for witch flounder that were published in the proposed rule. Although the 2016 ABC and ACL values were listed incorrectly in Table 13 in the proposed rule, the 2016 catch and overage, the amount to be paid back in 2018 (Table 14), and the revised 2018 allocations (Table 15) were correct.

Classification

Pursuant to section 304(b)(1)(A) of the Magnuson-Stevens Fishery Conservation and Management Act, the NMFS Assistant Administrator has determined that the management measures implemented in this final rule are necessary for the conservation and management of the Northeast multispecies fishery and consistent with the Magnuson-Stevens Act, and other applicable law.

This final rule has been determined to be not significant for purposes of Executive Order (E.O.) 12866.

This rule is not an E.O. 13771 regulatory action because this rule is not significant under E.O. 12866.

This final rule does not contain policies with Federalism or takings implications as those terms are defined in E.O. 13132 and E.O. 12630, respectively.

The Assistant Administrator for Fisheries finds that there is good cause, under 5 U.S.C. 553(d)(3), to waive the 30-day delayed effectiveness of this action. This action relies on the best available science to set 2018 catch limits for 20 groundfish stocks and adopts several other measures to improve the management of the groundfish fishery. If the final rule is not effective on May 1, 2018, the Eastern U.S./Canada Area would be closed, until this rule is effective, because there are no default quotas specified for eastern GB Cod or eastern GB haddock. Groundfish vessels would also be unable to benefit from the increased quotas (particularly GOM cod, GOM haddock, Cape Cod/GOM yellowtail flounder, and American plaice) for the first portion of the fishing year, which occurs during the important summer fishing season. To fully capture the conservation and economic benefits of Framework 57 and prevent the negative economic impacts that would result from the closure of the Eastern U.S./Canada Area, it is necessary to waive the 30-day delayed effectiveness of this rule. In addition to potentially preventing the fishery from fully benefitting from catch limit increases, a delay could substantially disrupt business planning and fishing practices that would also result in direct economic loss for the groundfish fleet because of disruption to the fishery. Delaying effectiveness this rule would undermine the intent of the rule to set 2018 catch limits using the best available science.

This rulemaking incorporates information from updated stock assessments for the 20 groundfish stocks. The development of Framework 57 was timed to rely on the best available science by incorporating the results of these assessments, the last of which was finalized in December 2017. This required Council action and analysis that could not be completed until January 2018, and an opportunity for public comment on the proposed rule that did not close until April 6, 2018. The regulatory changes resulting from this best available information are regularly made in, and anticipated by, the fishery. Quotas for 11 stocks will increase with the implementation of this rule, which notably includes a 41-percent increase for GOM cod and a 139-percent increase for GB cod. In recent years, low quotas for these two key groundfish stocks have constrained catch of other stocks because cod is caught along with other stocks in this mixed fishery and fishing must stop in an area when catch of any one stock reaches its quota. Delaying the increases in the quotas would result in lost fishing opportunities and constrain catch of all other stocks.

Failure to waive the 30-day delayed effectiveness would result in no catch limits being specified for eastern GB cod and haddock, which are jointly managed with Canada. Without an allocation for these groundfish stocks, groundfish vessels would be unable to fish in the Eastern U.S./Canada Management Area until this rule is effective. This would result in direct economic losses for the groundfish fleet. Delaying implementation of this rule would not only limit the benefits of an increased quota in 2018, but cause vessels to miss part of the summer season. The milder weather associated with the summer season is important for offshore fishing trips to the Eastern U.S./Canada Area, which extends out to 200 miles from shore. When the opening of the Eastern Area was delayed until August during the 2017 fishing year, vessels that normally fish in that area reported revenue losses of 50 percent. While the summer season is important to all vessels, it is particularly important to the small groundfish vessels with the most limited range and least sea-keeping ability because it is the season when many stocks are available nearest to shore. For smaller vessels, missing a month of the summer season could effectively curtail the entirety of their groundfish season.

In addition to the catch limit increases, quotas for nine stocks will decrease with implementation of this rule. These decreases range from 7 percent to 75 percent. Delaying these reductions could lead to catch at a rate that would result in an early closure, or quota overages, once the reduced quotas are implemented. This would have future negative economic impacts on the fishery. Further, delaying required reductions in ACLs increases the likelihood of overages and negative biological impacts to groundfish stocks, including many which are overfished and subject to a rebuilding plan.

For the reasons laid out above, delaying the effectiveness past the beginning of the fishing season on May 1, 2018, will result in a direct economic loss for the groundfish fleet. The groundfish fishery already faced substantial catch limit reductions for many key groundfish stocks over the past 7 years. Any further disruption to the fishery would diminish the benefits of these specifications and other approved measures and create additional and unnecessary economic impacts and confusion to the groundfish fishery. Delaying effectiveness may result in the fishery not fully benefitting from the quota increases in this final rule.

The Chief Counsel for Regulation of the Department of Commerce certified to the Chief Counsel for Advocacy of the Small Business Administration, during the proposed rule stage, that this action would not have a significant economic impact on a substantial number of small entities. The factual basis for this certification was published in the proposed rule and is not repeated here. No comments were received regarding this certification. As a result, a regulatory flexibility analysis was not required and none was prepared.

List of Subjects in 50 CFR Part 648

Fisheries, Fishing, Reporting and recordkeeping requirements.

Dated: April 26, 2018.
Samuel D. Rauch III,
Deputy Assistant Administrator for Regulatory Programs, National Marine Fisheries Service.

For the reasons stated in the preamble, 50 CFR part 648 is amended as follows:

PART 648—FISHERIES OF THE NORTHEASTERN UNITED STATES

1. The authority citation for part 648 continues to read as follows:

Authority: 16 U.S.C. 1801 et seq.

2. In § 648.14, revise paragraphs (k)(18) and (20) to read as follows:

§ 648.14 Prohibitions.

* * * * *

(k) * * *

(18) Trimester TAC AM. It is unlawful for any person, including any owner or operator of a vessel issued a valid Federal NE multispecies permit or letter under § 648.4(a)(1)(i), unless otherwise specified in § 648.17, to fish for, harvest, possess, or land regulated species or ocean pout in or from the closed areas specified in § 648.82(n)(2)(ii) once such areas are closed pursuant to § 648.82(n)(2)(i).

* * * * *

(20) AMs for both stocks of windowpane flounder, ocean pout, Atlantic halibut, and Atlantic wolffish. It is unlawful for any person, including any owner or operator of a vessel issued a valid Federal NE multispecies permit or letter under § 648.4(a)(1)(i), unless otherwise specified in § 648.17, to fail to comply with the restrictions on fishing and gear specified in § 648.90(a)(5)(i)(D) through (H).

* * * * *

3. In § 648.82, revise paragraph (n)(2)(i) to read as follows:

§ 648.82 Effort-control program for NE multispecies limited access vessels.

* * * * *

(n) * * *

(2) * * *

(i) Trimester TACs—(A) Trimester TAC distribution. With the exception of SNE/MA winter flounder, any sub-ACLs specified for common pool vessels pursuant to § 648.90(a)(4) shall be apportioned into 4-month trimesters, beginning at the start of the fishing year (i.e., Trimester 1: May 1-August 31; Trimester 2: September 1-December 31; Trimester 3: January 1-April 30), as follows:

Portion of Common Pool Sub-ACLs Apportioned to Each Stock for Each Trimester
Stock | Trimester 1 (percent) | Trimester 2 (percent) | Trimester 3 (percent)
GB cod | 28 | 34 | 38
GOM cod | 49 | 33 | 18
GB haddock | 27 | 33 | 40
GOM haddock | 27 | 26 | 47
GB yellowtail flounder | 19 | 30 | 51
SNE/MA yellowtail flounder | 21 | 28 | 51
CC/GOM yellowtail flounder | 57 | 26 | 17
American plaice | 74 | 8 | 18
Witch flounder | 55 | 20 | 25
GB winter flounder | 8 | 24 | 68
GOM winter flounder | 37 | 38 | 25
Redfish | 25 | 31 | 44
White hake | 38 | 31 | 31
Pollock | 28 | 35 | 37

(B) Trimester TAC adjustment. For stocks that have experienced early closures (e.g., Trimester 1 or Trimester 2 closures), the Regional Administrator may use the biennial adjustment process specified in § 648.90 to revise the distribution of trimester TACs specified in paragraph (n)(2)(i)(A) of this section. Future adjustments to the distribution of trimester TACs shall use catch data for the most recent 5-year period prior to the reevaluation of trimester TACs.

* * * * *

4. In § 648.89, add paragraph (g) to read as follows:

§ 648.89 Recreational and charter/party vessel restrictions.

* * * * *

(g) Regional Administrator authority for 2018 and 2019 Georges Bank cod recreational measures. For the 2018 or 2019 fishing years, the Regional Administrator, after consultation with the NEFMC, may adjust recreational measures for Georges Bank cod to prevent the recreational fishery from exceeding the annual catch target of 138 mt. Appropriate measures, including adjustments to fishing seasons, minimum fish sizes, or possession limits, may be implemented in a manner consistent with the Administrative Procedure Act, with the final measures published in the Federal Register prior to the start of the fishing year when possible. Separate measures may be implemented for the private and charter/party components of the recreational fishery. Measures in place in fishing year 2019 will be in effect beginning in fishing year 2020, and will remain in effect until they are changed by a Framework Adjustment or Amendment to the FMP, or through an emergency action.

5. Section 648.90 is amended by:

a. Removing reserved paragraph (a)(5)(i)(E);

b. Redesignating paragraph (a)(5)(i)(D)(1) through (4) as paragraphs (a)(5)(i)(E) through (H);

c. Revising newly redesignated paragraphs (a)(5)(i)(E) through (H); and

d. Adding paragraph (a)(5)(iv)(C).

The revisions and addition read as follows:

§ 648.90 NE multispecies assessment, framework procedures and specifications, and flexible area action system.

* * * * *

(a) * * *

(5) * * *

(i) * * *

(E) Windowpane flounder. Unless otherwise specified in paragraphs (a)(5)(i)(E)(5) and (6) of this section, if NMFS determines the total catch exceeds the overall ACL for either stock of windowpane flounder, as described in this paragraph (a)(5)(i)(E), by any amount greater than the management uncertainty buffer, up to 20 percent greater than the overall ACL, the applicable small AM area for the stock shall be implemented, as specified in paragraph (a)(5)(i)(E) of this section, consistent with the Administrative Procedure Act. If the overall ACL is exceeded by more than 20 percent, the applicable large AM area(s) for the stock shall be implemented, as specified in this paragraph (a)(5)(i)(E), consistent with the Administrative Procedure Act. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6).

(1) Multispecies Fishery. If an overage of the overall ACL for southern windowpane flounder is a result of an overage of the sub-ACL allocated to the multispecies fishery pursuant to paragraph (a)(4)(iii)(H)(2) of this section, the applicable AM area(s) shall be in effect year-round for any limited access NE multispecies permitted vessel fishing on a NE multispecies DAS or sector trip.

(2) Exempted Fisheries. If an overage of the overall ACL for southern windowpane flounder is a result of an overage of the sub-ACL allocated to exempted fisheries pursuant to paragraph (a)(4)(iii)(F) of this section, the applicable AM area(s) shall be in effect for any trawl vessel fishing with a codend mesh size of greater than or equal to 5 inches (12.7 cm) in other, non-specified sub-components of the fishery, including, but not limited to, exempted fisheries that occur in Federal waters and fisheries harvesting exempted species specified in § 648.80(b)(3). If triggered, the Southern Windowpane Flounder Small AM Area will be implemented from September 1 through April 30; the Southern Windowpane Flounder Large AM Areas 2 and 3 will be implemented year-round.

(3) Combined Overage. If an overage of the overall ACL for southern windowpane flounder is a result of overages of both the multispecies fishery and exempted fishery sub-ACLs, the applicable AM area(s) shall be in effect for both the multispecies fishery and exempted fisheries as described in this paragraph (a)(5)(i)(E). If a sub-ACL for either stock of windowpane flounder is allocated to another fishery, consistent with the process specified at paragraph (a)(4) of this section, and there are AMs for that fishery, the multispecies fishery AM shall only be implemented if the sub-ACL allocated to the multispecies fishery is exceeded (i.e., the sector and common pool catch for a particular stock, including the common pool's share of any overage of the overall ACL caused by excessive catch by other sub-components of the fishery pursuant to paragraph (a)(5) of this section exceeds the common pool sub-ACL) and the overall ACL is also exceeded.

(4) Windowpane AM Areas. The AM areas defined below are bounded by the following coordinates, connected in the order listed by rhumb lines, unless otherwise noted.

Point | N latitude | W longitude
Northern Windowpane Flounder and Ocean Pout Small AM Area
1 | 41°10′ | 67°40′
2 | 41°10′ | 67°20′
3 | 41°00′ | 67°20′
4 | 41°00′ | 67°00′
5 | 40°50′ | 67°00′
6 | 40°50′ | 67°40′
1 | 41°10′ | 67°40′
Northern Windowpane Flounder and Ocean Pout Large AM Area
1 | 42°10′ | 67°40′
2 | 42°10′ | 67°20′
3 | 41°00′ | 67°20′
4 | 41°00′ | 67°00′
5 | 40°50′ | 67°00′
6 | 40°50′ | 67°40′
1 | 42°10′ | 67°40′
Southern Windowpane Flounder and Ocean Pout Small AM Area
1 | 41°10′ | 71°30′
2 | 41°10′ | 71°20′
3 | 40°50′ | 71°20′
4 | 40°50′ | 71°30′
1 | 41°10′ | 71°30′
Southern Windowpane Flounder and Ocean Pout Large AM Area 1
1 | 41°10′ | 71°50′
2 | 41°10′ | 71°10′
3 | 41°00′ | 71°10′
4 | 41°00′ | 71°20′
5 | 40°50′ | 71°20′
6 | 40°50′ | 71°50′
1 | 41°10′ | 71°50′
Southern Windowpane Flounder and Ocean Pout Large AM Area 2
1 | ( ¹ ) | 73°30′
2 | 40°30′ | 73°30′
3 | 40°30′ | 73°50′
4 | 40°20′ | 73°50′
5 | 40°20′ | ( ² )
6 | ( ³ ) | 73°58.5′
7 | ( ⁴ ) | 73°58.5′
8 | ⁵ 40°32.6′ | ⁵ 73°56.4′
1 | ( ¹ ) | 73°30′
Southern Windowpane Flounder Large AM Area 3
1 | 41°10′ | 71°30′
2 | 41°10′ | 71°10′
3 | 41°00′ | 71°10′
4 | 41°00′ | 71°20′
5 | 40°50′ | 71°20′
6 | 40°50′ | 71°30′
1 | 41°10′ | 71°30′
¹ The southernmost coastline of Long Island, NY, at 73°30′ W longitude.
² The easternmost coastline of NJ at 40°20′ N latitude, then northward along the NJ coastline to Point 6.
³ The northernmost coastline of NJ at 73°58.5′ W longitude.
⁴ The southernmost coastline of Long Island, NY, at 73°58.5′ W longitude.
⁵ The approximate location of the southwest corner of the Rockaway Peninsula, Queens, NY, then eastward along the southernmost coastline of Long Island, NY (excluding South Oyster Bay), back to Point 1.

(5) Reducing the size of an AM. If the overall northern or southern windowpane flounder ACL is exceeded by more than 20 percent and NMFS determines that the stock is rebuilt, and the biomass criterion, as defined by the Council, is greater than the most recent fishing year's catch, then only the small AM may be implemented as described in paragraph (a)(5)(i)(D)(1) of this section, consistent with the Administrative Procedure Act. This provision applies to a limited access NE multispecies permitted vessel fishing on a NE multispecies DAS or sector trip, and to all vessels fishing with trawl gear with a codend mesh size equal to or greater than 5 inches (12.7 cm) in other, non-specified sub-components of the fishery, including, but not limited to, exempted fisheries that occur in Federal waters and fisheries harvesting exempted species specified in § 648.80(b)(3).

(6) Reducing the duration of an AM. If the northern or southern windowpane flounder AM is implemented in the third fishing year following the year of an overage, as described in paragraph (a)(5)(i)(D) of this section, and NMFS subsequently determines that the applicable windowpane flounder ACL was not exceeded by any amount the year immediately after which the overage occurred (i.e., the second year), on or after September 1 the AM can be removed once year-end data are complete. This reduced duration does not apply if NMFS determines during year 3 that a year 3 overage of the applicable windowpane flounder ACL has occurred. This provision applies to a limited access NE multispecies permitted vessel fishing on a NE multispecies DAS or sector trip, and to all vessels fishing with trawl gear with a codend mesh size equal to or greater than 5 inches (12.7 cm) in other, non-specified sub-components of the fishery, including, but not limited to, exempted fisheries that occur in Federal waters and fisheries harvesting exempted species specified in § 648.80(b)(3).

(F) Atlantic halibut. If NMFS determines the overall ACL for Atlantic halibut is exceeded, as described in this paragraph (a)(5)(i)(F), by any amount greater than the management uncertainty buffer, the applicable AM areas shall be implemented and any vessel issued a Federal permit for any fishery management plan may not fish for, possess, or land Atlantic halibut for the fishing year in which the AM is implemented, as specified in paragraph (a)(5)(i)(F) of this section. Vessels issued only a charter/party permit, and/or an Atlantic highly migratory species angling permit, and/or an Atlantic highly migratory species charter/headboat permit are exempt from the AM. A vessel issued a permit that is not exempt from the AM in addition to an exempt permit may not fish for, possess, or land Atlantic halibut for the fishing year in which the AM is implemented. If the overall ACL is exceeded by more than 20 percent, the applicable AM area(s) for the stock shall be implemented, as specified in paragraph (a)(5)(i)(F) of this section, and the Council shall revisit the AM in a future action. The AM areas defined below are bounded by the following coordinates, connected in the order listed by rhumb lines, unless otherwise noted. Any vessel issued a limited access NE multispecies permit and fishing with trawl gear in the Atlantic Halibut Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6); except that selective trawl gear is not required in the portion of the Trawl Gear AM Area between 41 degrees 40 minutes and 42 degrees from April 1 through July 31. When in effect, a limited access NE multispecies permitted vessel with gillnet gear may not fish or be in the Atlantic Halibut Fixed Gear AM Area from March 1 through October 31, unless transiting with its gear stowed and not available for immediate use as defined in § 648.2, or such gear was approved consistent with the process defined in § 648.85(b)(6). If a sub-ACL for Atlantic halibut is allocated to another fishery, consistent with the process specified at § 648.90(a)(4), and there are AMs for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

Atlantic Halibut Trawl Gear AM Area
Point | N latitude | W longitude
1 | 42°00′ | 69°20′
2 | 42°00′ | 68°20′
3 | 41°30′ | 68°20′
4 | 41°30′ | 69°20′

Atlantic Halibut Gillnet Gear AM Area
Point | N latitude | W longitude
1 | 43°10′ | 69°40′
2 | 43°10′ | 69°30′
3 | 43°00′ | 69°30′
4 | 43°00′ | 69°40′

(G) Atlantic wolffish. If NMFS determines the overall ACL for Atlantic wolffish is exceeded, as described in this paragraph (a)(5)(i)(G), by any amount greater than the management uncertainty buffer, the applicable AM areas shall be implemented, as specified in this paragraph (a)(5)(i)(G). If the overall ACL is exceeded by more than 20 percent, the applicable AM area(s) for the stock shall be implemented, as specified in this paragraph (a)(5)(i)(G), and the Council shall revisit the AM in a future action. The AM areas defined below are bounded by the following coordinates, connected in the order listed by rhumb lines, unless otherwise noted. Any vessel issued a limited access NE multispecies permit and fishing with trawl gear in the Atlantic Wolffish Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6). When in effect, a limited access NE multispecies permitted vessel with gillnet or longline gear may not fish or be in the Atlantic Wolffish Fixed Gear AM Areas, unless transiting with its gear stowed and not available for immediate use as defined in § 648.2, or such gear was approved consistent with the process defined in § 648.85(b)(6). If a sub-ACL for Atlantic wolffish is allocated to another fishery, consistent with the process specified at § 648.90(a)(4), and AMs are developed for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

Atlantic Wolffish Trawl Gear AM Area
Point | N latitude | W longitude
1 | 42°30′ | 70°30′
2 | 42°30′ | 70°15′
3 | 42°15′ | 70°15′
4 | 42°15′ | 70°10′
5 | 42°10′ | 70°10′
6 | 42°10′ | 70°20′
7 | 42°20′ | 70°20′
8 | 42°20′ | 70°30′

Atlantic Wolffish Fixed Gear AM Area 1
Point | N latitude | W longitude
1 | 41°40′ | 69°40′
2 | 41°40′ | 69°30′
3 | 41°30′ | 69°30′
4 | 41°30′ | 69°40′

Atlantic Wolffish Fixed Gear AM Area 2
Point | N latitude | W longitude
1 | 42°30′ | 70°20′
2 | 42°30′ | 70°15′
3 | 42°20′ | 70°15′
4 | 42°20′ | 70°20′

(H) Ocean pout. Unless otherwise specified in paragraphs (a)(5)(i)(E)(5) and (6) of this section, if NMFS determines the total catch exceeds the overall ACL for ocean pout, as described in paragraph (a)(5)(i)(E) of this section, by any amount greater than the management uncertainty buffer up to 20 percent greater than the overall ACL, the applicable small AM area for the stock shall be implemented, as specified in paragraph (a)(5)(i)(E) of this section, consistent with the Administrative Procedure Act. If the overall ACL is exceeded by more than 20 percent, large AM area(s) for the stock shall be implemented, as specified in paragraph (a)(5)(i)(E) of this section, consistent with the Administrative Procedure Act. The AM areas for ocean pout are defined in paragraph (a)(5)(i)(E)(4) of this section, connected in the order listed by rhumb lines, unless otherwise noted. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6).

* * * * *

(iv) * * *

(C) 2018 fishing year threshold for implementing the Atlantic sea scallop fishery AM for SNE/MA yellowtail flounder. For the 2018 fishing year, if the scallop fishery catch exceeds its SNE/MA yellowtail flounder sub-ACL specified in paragraph (a)(4) of this section, and total catch exceeds the overall ACL for that stock, then the applicable scallop fishery AM will take effect, as specified in § 648.64 of the Atlantic sea scallop regulations. Beginning in fishing year 2019, the threshold for implementing scallop fishery AMs for SNE/MA yellowtail flounder listed in paragraph (a)(5)(iv)(A) of this section will be in effect.

* * * * *

[FR Doc. 2018-09148 Filed 4-30-18; 8:45 am]

BILLING CODE 3510-22-P